DEPARTMENT OF THE INTERIOR

Bureau of Indian Affairs

[178A2100DD/AAKC001030/A0A501010.999900253G]

Indian Gaming; Tribal-State Class III Gaming Compacts Taking Effect in the State of California

AGENCY: Bureau of Indian Affairs, Interior.

ACTION: Notice.

SUMMARY: The State of California entered into compacts governing Class III gaming with the Buena Vista Rancheria of Me-Wuk Indians of California, the Barona Group of Capitan Grande Band of Mission Indians of the Barona Reservation, the Jamul Indian Village of California, the Pechanga Band of Luiseno Mission Indians of the Pechanga Reservation, and the Yocha Dehe Wintun Nation. This notice announces that the compacts are taking effect.

DATES: The effective date of the compacts is December 5, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The Secretary took no action on the compacts within 45 days of their submission. Therefore, the compacts are considered to have been approved, but only to the extent the compacts are consistent with IGRA. See 25 U.S.C. 2710(d)(8)(C).

Dated: November 22, 2016.
Lawrence S. Roberts,
Principal Deputy Assistant Secretary—Indian Affairs.

[FR Doc. 2016-29076 Filed 12-2-16; 8:45 am]

BILLING CODE 4337-15-P